DEPARTMENT OF THE INTERIOR

Office of the Secretary

Request for Comments on the Revised Department Strategic Plan for FY 2007-2012

AGENCY: Office of the Secretary, Interior.

ACTION: Request for comments on a revised Departmental Strategic Plan for FY 2007-2012 in fulfillment of certain provisions of the Government Performance and Results Act (GPRA) of 1993.

SUMMARY: The Department of the Interior (DOI) is seeking public comment on its draft GPRA strategic plan for fiscal year 2007-2012.

DATES: Comments should be provided no later than 60 days following the publication of this notice.

ADDRESSES: Written comments can be provided by:

E-mail: GPRAplancomments@ios.doi.gov.

Fax: (202) 208-2619.

Mail: U.S. Department of the Interior, Office of the Secretary—Planning and Performance Management, Attention: DOI Strategic Planning Coordinator, 1849 C Street, NW., Mail Stop 5258, Washington, DC 20240.

FOR FURTHR INFORMATION CONTACT: LeRon E. Bielak, DOI Strategic Planning Coordinator at (202) 208-1818.

SUPPLEMENTARY INFORMATION: The Government Performance and Results Act of 1993 requires periodic updating of agency performance plans. The first Interior GPRA Strategic Plan was published in 1997. Subsequent revisions were published in 2000 and 2003.

In producing the revision plan in 2003, DOI took a major departure from its past approaches to GPRA planning. Previously, DOI produced a set of ten GPRA planning documents—an overview document and nine bureau and office plans. While the overview attempted to highlight areas of commonalty among bureaus, Interior was still perceived as a “holding company” and concern remained about the effectiveness of a agency functioning in a holding company fashion. Consequently, the last revision successfully integrated major bureau functions into a single unified GPRA plan.

The 2003 plan accentuated common goals and performance measures among bureaus and placed a much greater emphasis on results to be achieved. In creating this integrated plan, Interior employed a “logic model” approach in which two tiers of goals (outcome goals and intermediate outcome goals) were developed and performance measures were applied to both tiers to measure achievement. The integrated plan included performance measures with quantitative long-term targets (for 2008) while annual targets for the measures were established in the Department's yearly Performance Budgets. Bureau operational plans also link and align directly with the Departmental GPRA plan in order to reinforce functional responsibilities, help confirm the relevance and cost of work conducted, and guide budget preparation.

The major restructuring of the prior plan required 22 months and involved extensive use of internal teams, external public work sessions and written public comment. Revision of the FY 2003-2008 plan began late last summer with an internal assessment of the strengths and weaknesses of the plan. We are soliciting written public comments on the modifications to our first unified plan. This revision will become our DOI strategic plan for FY 2007-2012.

In particular, Interior would be interested in viewpoints on effective quantitative, outcome-oriented performance measures that are proposed for the following areas: (a) Law enforcement (as it applies to resource protection and public safety on public lands), (b) science (both in terms of the applications of science and of advancing knowledge in natural resource areas), (c) energy access (specifically if a more readily understandable context for measurement is possible for example, see Resource Use measures #2 and 8), and (d) recreation capacity (whether recreation mission measures #4-5 are satisfactory indicators of increased capacity). However, this request for comments is not intended to be limited to these topics.

Interior is also organizing opportunities to discuss the draft revised FY 2007-2012 GPRA plan at several meetings across the country during the next several months. Public and tribal meetings are currently set for the week of August 27 in Anchorage, Alaska. Additional meetings are expected to be set in most or all of the following locations in September or early October: Sacramento, Phoenix, Albuquerque area, Denver, Minneapolis, and Washington, DC. Please consult the Interior Web site for further details.

Interior looks forward to receiving your comments on our revised plan. We are asking that comments be postmarked within 60 days of publication of this notice. The text of the draft revised plan is available in a “pdf” downloadable format through the DOI Internet Web site: http://www.doi.gov/. Links to the plan and related information will be posted on the opening page of the Web site. For those without Internet access, an electronic or paper copy can be requested through the contact points listed in the ADDRESSES section of this notice.

Dated: August 16, 2006.
R. Thomas Weimer,
Assistant Secretary—Policy, Management and Budget.

[FR Doc. 06-7096 Filed 8-22-06; 8:45 am]

BILLING CODE 4310-RK-M